DEPARTMENT OF TRANSPORTATION

Federal Aviation Administration

Office of Commercial Space Transportation; Notice of Availability and Request for Comment on a Draft Environmental Impact Statement (EIS) for the Spaceport America Commercial Launch Site, Sierra County, NM

AGENCY: The Federal Aviation Administration (FAA), Department of Transportation (DOT).

ACTIONS: Notice of Availability, Notice of Public Comment Period, Notice of Public Hearings, and Request for Comment.

SUMMARY: In accordance with National Environmental Policy Act (NEPA) regulations and FAA Order 1050.1E, Change 1, the FAA is announcing the availability of and requesting comments on the Draft EIS for the Spaceport America Commercial Launch Site, Sierra County, New Mexico. The Federal Aviation Administration (FAA), Office of Commercial Space Transportation is the lead Federal agency for the development of this EIS. Cooperating agencies include the Bureau of Land Management; the National Park Service; United States Department of the Army, White Sands Missile Range (WSMR); and the National Aeronautics and Space Administration.

The Draft EIS was prepared in response to an application for a launch site operator license from the New Mexico Spaceport Authority (NMSA). Under the Proposed Action, the FAA would issue a launch site operator license to NMSA to operate a launch facility capable of accommodating both horizontal and vertical launches of suborbital launch vehicles (LVs). The vehicles may carry space flight participants, scientific experiments, or other payloads. The proposed site is located in Sierra County, approximately 30 miles southeast of Truth or Consequences, New Mexico, and 45 miles north of Las Cruces, New Mexico. The Draft EIS addresses the potential environmental impacts of issuing a launch site operator license for horizontal launches only (Alternative 1), vertical launches only (Alternative 2), and the No Action Alternative.

DATES: The public comment period for the NEPA process begins with the publication of the U.S. Environmental Protection Agency's notice in the Federal Register on July 3, 2008. To ensure that all comments can be addressed in the Final EIS, comments on the draft must be received by the FAA no later than August 18, 2008.

A paper copy and a CD version of the Draft EIS may be reviewed for comment during regular business hours at the following locations:

Hatch Public Library, P.O. Box 289, Hatch, NM 87937

Sunland Park Community Library, 984 McNutt Road, Bldg. F-10, Sunland Park, NM 88063

Thomas Branigan Memorial Library, 200 E Picacho Ave., Las Cruces, NM 88001

Valley Public Library, 136 N. Main, Anthony, NM 88021

Alamogordo Public Library, 920 Oregon Ave., Alamogordo, NM 88310

Mescalero Community Library, 101 Central Ave., Mescalero, NM 88340

Michael Nivision Library, 90 Swallow Place, Cloudcroft, NM 88317

Truth or Consequences Public Library, 325 Library Lane, Truth or Consequences, NM 87901

Truth or Consequences Public Library—Downtown, 401 Foch St., Truth or Consequences, NM 87901

The FAA is holding a total of six public hearings on the Draft EIS. At these meetings, the FAA will present information about the Draft EIS and the environmental review process. The purpose of the public hearings is to afford the public and other interested parties the opportunity to comment on the economic, social, and environmental effects of the Proposed Action. Members of the public will be provided the opportunity to submit both written and oral comments. The FAA will transcribe oral comments. All comments received during the comment period will be given equal weight and be taken into consideration in the preparation of the Final EIS. The public hearings will be held at the following locations.

• August 5, 2008, 2 p.m. and 6:30 p.m., Alamogordo City Hall (Commission Chambers), 1376 E. Ninth St., Alamogordo, NM (505-439-4205).

• August 6, 2008, 2 p.m. and 6:30 p.m., Truth or Consequences Civic Center, 400 West Fourth St., Truth or Consequences, NM (575-894-4400).

• August 7, 2008, 2 p.m. and 6:30 p.m., Doña Ana County Government Center, 845 North Motel Blvd., Las Cruces, NM (575-647-7200).

The FAA has posted the Draft EIS on the FAA Web site at http://ast.faa.gov. In addition, CDs with the Draft EIS were sent to persons and agencies on the distribution list (found in Chapter 8 of the Draft EIS).

ADDRESSES: Comments regarding the Draft EIS should be mailed to FAA Spaceport America EIS, c/o ICF International, 9300 Lee Highway, Fairfax, VA 22031. Comments also can be sent by e-mail to SpaceportAmericaEIS@icfi.com or fax to (703) 934-3951.

ADDITIONAL INFORMATION: Under the Proposed Action, the FAA would issue a launch site operator license to NMSA that would allow the State to operate the proposed Spaceport America Commercial Launch Site for both horizontal and vertical suborbital LV launches. Horizontal LVs would launch and land at the proposed Spaceport America airfield. Vertical LVs would launch from Spaceport America and either land at Spaceport America or at WSMR. Rocket-powered vertical landing vehicles would land on either the Spaceport America airfield or a vertical launch/landing pad.

In addition, the Proposed Action includes construction of facilities needed to support the licensed launch activities at the proposed launch site. Development of Spaceport America infrastructure would occur in two phases. The total area of land disturbed by construction would be approximately 970 acres; the total area of the final facilities footprint would be approximately 145 acres. The proposed Spaceport America boundary would encompass approximately 26 square miles. This area currently contains both State and private land.

Operational activities in support of the Proposed Action would begin as soon as the phased construction activities related to the Proposed Action were completed. The operational activities that may have environmental consequences and would support, either directly or indirectly, licensed launches include:

• Transport of Launch Vehicles to the Assembly or Staging Areas.

• Transport and Storage of Rocket Propellants and Other Fuels.

• Launch, Landing and Recovery Activities for Horizontal Vehicles.

• Launch, Landing and Recovery Activities for Vertical Vehicles.

• Other Activities.

—Ground-Based Tests and Static Firings.

—Training.

—X Prize Cup Events.

The FAA identified two alternatives and the No Action Alternative to the Proposed Action, which are considered in the draft EIS. Under Alternative 1, the FAA would consider issuing a launch site operator license only for the operation of a launch site to support horizontal launches. This is considered a feasible alternative because a significant number of launches of horizontal LVs are projected, and most X Prize Cup activities would be located at the airfield.

Under Alternative 2, the FAA would consider issuing a launch site operator license only for the operation of a launch site to support vertical launches. This is considered a feasible alternative because a significant number of launches are projected to be of vertical LVs.

Under the No Action Alternative, the FAA would not issue a launch site operator license to the NMSA. Subsequently, the need to support commercial launches and host the X Prize Cup would not be met by the State of New Mexico.

Resource areas were considered to provide a context for understanding and assessing the potential environmental effects of the Proposed Action, with attention focused on key issues. The resource areas considered included compatible land use; Section 4(f) lands and farmlands; noise; visual resources and light emissions; historical, architectural, archaeological, and cultural resources; air quality; water quality, wetlands, wild and scenic rivers, coastal resources, and floodplains; fish, wildlife, and plants; hazardous materials, pollution prevention, and solid waste; socioeconomics, environmental justice, and children's environmental health and safety risks; and energy supply and natural resources. Construction impacts and secondary (induced) impacts are also considered. Additional analyses considered in the appendices include geology and soils; mineral resources; air space; health and safety; and transportation.

FOR FURTHER INFORMATION CONTACT: Stacey M. Zee (AST-100), Office of Commercial Space Transportation, 800 Independence Avenue, SW., Room 331, Washington, DC 20591, telephone (202) 267-9305; E-mail stacey.zee@faa.gov.

Issued in Washington, DC on July 2, 2008.
Michael McElligott,
Manager, Space Systems Development Division.

1

[FR Doc. E8-15545 Filed 7-8-08; 8:45 am]

BILLING CODE 4910-13-P